DEPARTMENT OF ENERGY

Federal Energy Regulatory Commission

[Docket No. RP01-384-000]

Chandeleur Pipe Line Company; Notice of Compliance Filing

May 1, 2001.

Take notice that on April 23, 2001, Chandleleur Pipe Line Company (Chandeleur) tendered for filing as part of its FERC Gas Tariff, Second Revised Volume No. 1, the following tariff sheets, to become effective May 1, 2001:

Third Revised Sheet No. 18

Fourth Revised Sheet No. 29

First Revised Sheet No. 18A

Original Sheet No. 29A

Fourth Revised Sheet No. 19

Third Revised Sheet No. 32

Fifth Revised Sheet No. 19A

Second Revised Sheet No. 48

Original Sheet No. 19A.01

First Revised Sheet No. 67A

Original Sheet No. 19A.02

Sixth Revised Sheet No. 69

Fourth Revised Sheet No. 19B

Fifth Revised Sheet No. 69A

Second Revised Sheet No. 19C

First Revised Sheet No. 69B

Chandeleur states that the purpose of this filing is to comply with the Commission's order issued November 30, 2000, in RM96-1-015 wherein the Commission adopted, by reference in Section 284 of its Regulations (18 CFR 284.12), Version 1.4 of the GISB standards implementing certain standardized business practices.

Any person desiring to be heard or to protest said filing should file a notion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11344 Filed 5-4-01; 8:45 am]

BILLING CODE 6717-01-M